DEPARTMENT OF TRANSPORTATION

Pipeline and Hazardous Materials Safety Administration

49 CFR Part 173

[Docket No. PHMSA-2013-0205; Notice No. 14-5]

Clarification on Fireworks Policy Regarding Display Aerial Shells With Attachments

AGENCY: Pipeline and Hazardous Materials Safety Administration (PHMSA), DOT.

ACTION: Clarification.

SUMMARY: This document clarifies PHMSA's policy regarding applications for classification approval of Display Aerial Shells with Attachments, provided they conform to the acceptable criteria described in this guidance, and otherwise comply with APA Standard 87-1 requirements. Although the APA Standard 87-1 provides requirements for Display Aerial Shells, it does not specifically address Display Aerial Shells with Attachments.

DATES: September 24, 2014.

FOR FURTHER INFORMATION CONTACT: Mr. Ryan Paquet, Director, Approvals and Permits Division, Office of Hazardous Materials Safety, (202) 366-4512, PHMSA, 1200 New Jersey Avenue SE., Washington, DC 20590.

SUPPLEMENTARY INFORMATION:

I. Introduction

In this document, PHMSA's Office of Hazardous Materials Safety (OHMS) is issuing this policy regarding its classification approval of Display Aerial Shells with Attachments, which describes acceptable criteria for these types of fireworks. PHMSA previously evaluated and approved these devices; however, PHMSA has not previously published guidance regarding the approval of these types of fireworks. This clarification will help fireworks manufacturers and their U.S. designated agents who file applications on their behalf to provide accurate applications to PHMSA for approval, which will minimize the delay in processing these applications while sustaining the current level of safety.

II. Background

PHMSA's OHMS, Approvals and Permits Division, receives approval applications for various types of fireworks, including Division 1.3G Display Aerial Shells with Attachments. Division 1.3G fireworks applications may be approved in accordance with subpart C of part 173 of the Hazardous Materials Regulations (HMR, 49 CFR parts 171-180). Division 1.3G fireworks applicants have the option for obtaining an EX classification approval without prior testing by a DOT-approved explosive test laboratory, provided that the firework device is manufactured in accordance with the APA Standard 87-1 and passes a thermal stability test as required by § 173.64(a)(1) and (2). The APA Standard 87-1 currently does not specifically address Display Aerial Shells with Attachments; however, it does provide the requirements for display shells.

Display Aerial Shells with Attachments that conform to the acceptable criteria described in this guidance and all applicable requirements in the APA Standard 87-1 (i.e., chemical compositions and shell diameter sizes), may be submitted to PHMSA for approval.

III. Guidelines for Display Aerial Shells With Attachments

PHMSA considers Display Aerial Shells with Attachments to be cylindrical or spherical cartridges containing pyrotechnic compositions with attached external components. An attachment is a component that contains pyrotechnic composition that is attached to the outside of a Display Aerial Shell, and may be ignited by its own independent fuse. Display Aerial Shells with Attachments range from 2 inches (50mm) to 10 inches (250mm) in exterior diameter and are classed as UN0335, Fireworks, Division 1.3G.

To be accepted for review and consideration, PHMSA expects Display Aerial Shells with Attachments to be designed so that they (1) remain attached to the display aerial shell, (2) do not leak pyrotechnic composition during transportation, and (3) are constructed of sturdy materials, such as (but not limited to) plastic, Kraft paper, or cardboard (this does not apply to tails). Designs must meet the requirements of 40 CFR 173.56(b) or 173.64, the requirements in the APA Standard 87-1, and must pass a thermal stability test as required by § 173.64(a)(2).

Issued in Washington, DC, under authority delegated in 49 CFR 1.97.
William S. Schoonover,
Deputy Associate Administrator, Pipeline and Hazardous Materials Safety Administration.

[FR Doc. 2014-22706 Filed 9-23-14; 8:45 am]

BILLING CODE 4910-60-P